DEPARTMENT OF HOUSING AND URBAN DEVELOPMENT

[Docket No FR-5382-N-17]

Notice of Proposed Information Collection for Public Comment: County Data Record Project

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: February 7, 2011.

ADDRESSES: Interested persons are invited to submit comments regarding this proposal. Comments should refer to the proposal by name and/or OMB Control number and should be sent to: Ashaki Robinson-Johns, Office of Policy Development and Research, Department of Housing and Urban Development, 451 7th Street, SW., Suite 8120, Washington, DC 20410.

FOR FURTHER INFORMATION CONTACT: Ashaki Robinson-Johns, (202) 402-7545, (this is not a toll free number) for copies of the proposed forms and other available documents.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

Title of Proposal: Data Collection Plan for the County Data Record Project.

Description of the need for the information and proposed use: The Department of Housing and Urban Development (HUD), under contract to Abt Associates Inc. and its subcontractors, Fairview Industries and Smart Data Strategies, is conducting a project to collect existing parcel data from 127 pre-selected counties and 27 corresponding States to construct a standardized parcel database for HUD's usage. The main objective of the project is to provide HUD with reliable and currently collected information on housing market and neighborhood conditions in counties and States identified by HUD as recipients of HUD funding so that HUD can perform three types of activities. First, this database will give HUD an ability to track home sales, foreclosures and tax assessments and also respond efficiently to economic and natural disasters that may occur in the near future. Second, the information collected by this project is intended to support future evaluations of HUD programs such as the Neighborhood Stabilization Program (NSP), the HOME Investment Partnership Program, and the Disaster Recovery Assistance program. Third, the process of data collection will be used to assess the feasibility of constructing an ongoing parcel database that could be extended to have a national coverage and also be available to the public as aggregates by geography.

Members of Affected Public: Public servants at local government agencies.

Estimation of the total number of hours needed to prepare the information collection including number of respondents, frequency of response, and hours of response: The total estimated burden hours are 112.4 hours for the 127 counties and 27 corresponding States. For each of the 127 counties, an average of two departments will be contacted. At each department, two staff members will be contacted by phone. The first will be the official who has the authority to approve data transfer and the second will be the technical staff who can transfer the data. Each phone call is expected to last 12 minutes on average. For each of the 27 States, two staff members will be contacted by phone at only one department. The first will be the official who has the authority to approve data transfer and the second will be the technical staff who can transfer the data. Each phone call is expected to last 12 minutes on average.

Status of the proposed information collection: New.

Authority: Public Law 91-609 84; Name of Law: Research and Development Programs.

Dated: December 1, 2010.
Raphael W. Bostic,
Assistant Secretary for Policy Development and Research.

[FR Doc. 2010-30842 Filed 12-7-10; 8:45 am]

BILLING CODE 4210-67-P